DEPARTMENT OF HEALTH AND HUMAN SERVICES

National Institutes of Health

National Institute of Mental Health; Notice of Workgroup Meeting

Notice is hereby given of a meeting of the Strategic Planning Implementation Workgroup organized by the Interagency Autism Coordinating Committee (IACC).

The workgroup meeting will be closed to the public with attendance limited to invited participants. The purpose of the workgroup meeting is to discuss future granting opportunities and budgetary requirements for the IACC Strategic Plan for Autism Spectrum Disorder (ASD) Research. The workgroup recommendations will be forwarded to the IACC for consideration and discussion at its next meeting on November 21, 2008.

Name of Committee: Interagency Autism Coordinating Committee (IACC).

Type of meeting: Strategic Planning Implementation Workgroup.

Date: August 8, 2008.

Time: 11 a.m. to 3 p.m. EDT.

Agenda: Review of budgetary requirements and funding opportunities for the IACC Strategic Plan for ASD Research.

Place: National Institutes of Health, Neuroscience Center, 6001 Executive Boulevard, Room 8233, Bethesda, MD.

Contact Person: Azik Schwechter, PhD., Office of Autism Research Coordination, Office of the Director, National Institute of Mental Health, NIH, 6001 Executive Boulevard, NSC, Room 8203a, Bethesda, MD 20892-9669, 301-443-7163, schwechtera@mail.nih.gov.

Information about the IACC is available on the Web site: http://www.nimh.nih.gov/research-funding/scientific-meetings/recurring-meetings/iacc/index.shtml.

Dated: July 24, 2008.
Jennifer Spaeth,
Director, Office of Federal Advisory Committee Policy.

[FR Doc. E8-17513 Filed 7-30-08; 8:45 am]

BILLING CODE 4140-01-P